DEPARTMENT OF AGRICULTURE

Forest Service

Southwestern Region; Arizona, New Mexico, West Texas, and West Oklahoma; New Mexico Collaborative Forest Restoration Program Technical Advisory Panel

AGENCY: Forest Service, USDA.

ACTION: Notice of meeting.

SUMMARY: The New Mexico Collaborative Forest Restoration Program Technical Advisory Panel will meet in Albuquerque, New Mexico, August 20-24, 2001. The purpose of the meeting is to provide recommendations to the Regional Forester, USDA Forest Service Southwestern Region, on which forest restoration grant proposals submitted in response the Collaborative Forest Restoration Program Request For Proposals best meet the objectives of the Community Forest Restoration Act (Title VI, Pub. L. 106-393). The 12 to 15 member panel shall be composed of a Natural Resources Official from the State of New Mexico, two representatives from federal land management agencies, at least one tribal or pueblo representative, at least two independent scientists with experience in forest ecosystem restoration, and equal representation from: conservation interests; local communities; and commodity interests.

DATES: The meeting will be held August 20-24, 2001, beginning at 10 a.m. on Monday, August 20 and ending at approximately 4 p.m. on Friday, August 24.

ADDRESSES: The meeting will be held at the Sheraton Old Town Inn, 800 Rio Grande Blvd. NW, Albuquerque, NM.

FOR FURTHER INFORMATION CONTACT: Walter Dunn, at (505) 842-3425, or Angela Sandoval, at (505) 842-3289, Cooperative and International Forestry Staff, USDA Forest Service, 333 Broadway SE, Albuquerque, NM 87102.

SUPPLEMENTARY INFORMATION: The meeting is open to the public. Items to be covered on the agenda include: (1) Adopting bylaws for the panel; (2) review of requirements of the Federal Advisory Committee Act; (3) review of the consensus process; (4) project proposal evaluations; and (5) public comment. Council discussion is limited to Panel members and Forest Service staff. Issues may be brought to the attention of the panel by submitting written statements to Walter Dunn at the address stated above. Written statements may also be submitted to the panel staff before or after the meeting. Public input sessions will be provided during the meeting. Individuals who submit written statements to Walter Dunn or the panel staff may address the panel during those sessions.

Dated: July 24, 2001.
Abel M. Camarena,
Acting Regional Forester.

[FR Doc. 01-18860 Filed 7-27-01; 8:45 am]

BILLING CODE 3410-11-U